ENVIRONMENTAL PROTECTION AGENCY

[ER-FRL-6663-7]

Environmental Impacts Statements; Notice of Availability

Responsible Agency: Office of Federal Activities, General Information (202) 564-7167 or http://www.epa.gov/compliance/nepa/.

Weekly receipt of Environmental Impact Statements

Filed 05/16/2005 Through 05/20/2005

Pursuant to 40 CFR 1506.9.

EIS No. 20050200, Draft EIS, AFS, CA, Creeks Forest Health Recovery Project, To Develop a Network of Defensible Fuel Profile Zones (DFPZs), Group-Selection Timber Harvest, Individual Tree Selection, Lassen National Forest, Almanor Ranger District, Plumas County, CA, Comment Period Ends: 07/11/2005, Contact: Robin Bryant (530) 258-2141.

EIS No. 20050201, Final EIS, AFS, NM, San Diego Range Allotment Project, Proposes To Revise Grazing Program, Santa Fe National Forest, Jemez Ranger District, Township 17-19 North, Range 1-3 East, Sandoval County, NM, Wait Period Ends: 06/27/2005, Contact: Derek Padilla (505) 829-3535.

EIS No. 20050202, Draft EIS, CGD, 00, Programmatic—Vessel and Facility Response Plans for Oil: 2003 Removal Equipment Requirements and Alternative Technology Revisions, To Increase the Oil Removal Capability, U.S. Exclusive Economic Zone (EEZ), United States, Alaska, Guam, Puerto Rico and other U.S. Territories, Comment Period Ends: 07/11/2005, Contact: Brad McKitrick (202) 267-0995.

EIS No. 20050203, Draft EIS, NPS, WA, Mountain Lake Fisheries Management Plan for the North Cascades National Service Complex, Implementation, North Cascades National Park, Whatcom, Skagit and Chelan Counties, WA, Comment Period Ends: 08/26/2005, Contact: Roy Zipp (360) 873-4590. Ext. 31.

EIS No. 20050204, Final EIS, FRC, MA, Weaver's Cove Liquefied Natural Gas (LNG) Project, Construct and Operate Onshore Liquefied Natural Gas Import and Interstate Natural Gas Transmission Facilities, Falls River, Bristol County, MA, Wait Period Ends: 06/27/2005, Contact: Roberta Coulter (202) 502-8584.

EIS No. 20050205, Final EIS, FRC, RI, KeySpan Liquefied Natural Gas (LNG) Facility Upgrade Project, Construction and Operation, and Algonquin Gas Transmission Project, Proposal for Site, Construct and Operate a New Natural Gas Pipeline, Coast Guard Permit, U.S. Army COE Section 10 and 404 Permits, Providence County, RI and New England, Wait Period Ends: 06/27/2005, Contact: Thomas Russo 1-866-20-3372.

Amended Notices

EIS No. 20050077, Draft EIS, AFS, AR, Ozark-St. Francis National Forests Proposed Revised Land and Resource Management Plan, Implementation, Several Counties, AR, Comment Period Ends: 06/27/2005, Contact: Cary Frost (479) 964-7507. Revision of FR Notice Published on 02/25/2005: CEQ Comment Period Ending 05/26/2005 has been extended to 06/27/2005.

EIS No. 20050114, Draft EIS, AFS, IN, Hoosier National Forest Land and Resource Management Plan, Implementation, Brown, Crawford, Dubois, Jackson, Lawrence, Martin, Monroe, Orange, Perry Counties, IN, Comment Period Ends: 06/27/2005, Contact: JEDI Perez (812) 275-5987. Revision of FR Notice Published on 03/25/2005: CEQ Comment Period Ending 06/23/2005 has been extended to 06/27/2005.

EIS No. 20050127, Draft EIS, AFS, MI, Hathaway National Forest, Proposed Land and Resource Management Plan, Forest Plan Revision, Implementation, Alder, Sheboygan, Chippewa, Delta, Luce and Mackinac Counties, MI, Comment Period Ends: 06/27/2005, Contact: Dave Maercklein (906) 786-4062. Revision of FR Notice Published on 03/25/2005: CEQ Comment Period Ending 06/23/2005 has been extended to 06/27/2005.

EIS No. 20050139, Draft EIS, COE, AR, Arkansas River Navigation Study, To Maintain and Improve the Navigation Channel in Order To Enhance Commercial Navigation on the McCellan Kerr Arkansas River Navigation System (MKARNS), Several Counties, AR and Several Counties, OK, Comment Period Ends: 06/23/2005, Contact: Renee Wright (501) 324-6139. Revision of FR Notice Published on 04/08/2005: CEQ Comment Period Ending on 05/24/2005 has been extended to 06/23/2005.

EIS No. 20050145, Final EIS, FHW, MO, I-64/US 40 Corridor, Reconstruction of the Existing 1-64/US 40 Facility with New Interchange Configurations and Roadway, Funding, City of St. Louis, St. Louis County, MO, Wait Period Ends: 06/20/2005, Contact: Don Neumann (573) 636-7104. Revision of FR Notice Published on 4/15/05: Wait Period Ending 05/20/2005 has been extended to 06/20/2005.

Dated: May 24, 2005.
Robert W. Hargrove,
Director, NEPA Compliance Division, Office of Federal Activities.

[FR Doc. 05-10676 Filed 5-26-05; 8:45 am]

BILLING CODE 6560-50-P